DEPARTMENT OF THE INTERIOR

Bureau of Land Management

[NV-025-1610-DQ-020F]

Notice of Availability of the Final Environmental Impact Statement / Proposed Resource Management Plan, Black Rock Desert-High Rock Canyon Emigrant Trails National Conservation Area, NV

AGENCY: Bureau of Land Management, Interior.

ACTION: Notice of Availability of the Final Environmental Impact Statement/Proposed Resource Management Plan (FEIS/PRMP), Black Rock Desert-High Rock Canyon Emigrant Trails National Conservation Area.

SUMMARY: In accordance with the National Environmental Policy Act of 1969 and the Federal Land Policy and Management Act of 1976, a FEIS/PRMP has been prepared for the Black Rock Desert-High Rock Canyon Emigrant Trails National Conservation Area Planning Area, Nevada.

DATES: BLM Planning Regulations (43 CFR 1610.5-2) state that any person who participated in the planning process, and has an interest that may be adversely affected, may protest. The protest must be filed within 30 days of the date that the Environmental Protection Agency publishes this notice in the Federal Register. Instructions for filing of protests are described in the front cover of the FEIS/PRMP and included in the Supplementary Information section of this notice.

FOR FURTHER INFORMATION CONTACT: David C. Cooper, NCA Manager, BLM Winnemucca Field Office, 5100 East Winnemucca Blvd., Winnemucca, NV 89445-2921, (775) 623-1500.

SUPPLEMENTARY INFORMATION: The Black Rock Desert-High Rock Canyon Emigrant Trails National Conservation Area Act of 2000 [Pub. L. 106-554] (the Act) gave special designation to 1.2 million acres of public lands managed by the Bureau of Land Management (BLM) in northwestern Nevada, collectively known as “Black Rock-High Rock.” The Act designated 815,000 acres as a National Conservation Area (NCA) and 752,000 acres as 10 Wilderness Areas (378,000 of the Wilderness acres overlap the NCA). The NCA and associated Wilderness Areas were created specifically to protect one of the last nationally significant segments of the historic emigrant trails used by pioneers to travel from the eastern United States to Oregon and California, and a landscape largely unchanged since the mid-1800s. Black Rock-High Rock contains an array of unique historic, cultural, educational, wildlife, riparian, and wilderness resources, threatened species, and recreational values. The Act also identified wilderness, grazing, and special recreation permit events as valuable existing land uses that are expected to continue.

Designating Black Rock-High Rock as an NCA and Wilderness Areas placed new emphasis and requirements on resource uses in the area. The FEIS/PRMP has been developed to address these changes. This FEIS/PRMP does not evaluate the designation of the NCA and Wilderness Areas, but rather develops several resource management alternatives that fully comply with the NCA Act and the Wilderness Act and other applicable laws, regulations and policies. The FEIS/PRMP analyzes the environmental consequences associated with implementation of each alternative. Additionally, approximately 15,000 acres in the south playa, 16,000 acres in the Lahontan Cutthroat Trout (LCT) Area, and 3,000 acres included in wilderness access and boundary roads and road corridors located outside the NCA that are not included in the designation are evaluated in the FEIS/PRMP due to their being contiguous lands with similar planning issues. These designated and adjacent areas, totaling approximately 1,221,000 acres of public lands, are referred to as the planning area.

In addition to other existing laws, regulations and policies, the NCA Act and the Wilderness Act govern land and resource use decisions in 97.4% of the planning area. As a result, the range of alternatives presented in the FEIS/PRMP and the impacts anticipated from their implementation are more constrained than is typical of BLM management plans.

Consultation, cooperation and communication in the service of conservation have guided the Black Rock-High Rock planning process from its inception. Accordingly, extensive public involvement provided the foundation upon which the FEIS and PRMP were constructed. The FEIS/PRMP was developed through a collaborative planning process involving two BLM State Offices and two BLM Field Offices, other federal agencies, the State of Nevada Black Rock Planning Team (which assured that State interests, laws and plans were fully considered throughout the planning process), area Tribal Government representatives, representatives of the local communities of Cedarville, California and Empire-Gerlach, Nevada, Modoc County, California, Humboldt County, Nevada, Pershing County, Nevada, and many diverse interests represented on two Resource Advisory Councils (RACs) and a RAC NCA Subgroup formed specifically to participate with BLM in the planning process. Government-to-government consultations were conducted with six Native American Indian Tribal Governments. Four series of public meetings were held in Nevada and California that involved the public in the planning process to the greatest extent possible. Five Black Rock-High Rock planning bulletins were mailed to over 1200 interested parties, and periodic news releases were issued announcing important steps in the planning process. In addition, a planning Web site (http://www.BlackRockHighRock.org/) keeps interested members of the public informed and involved. A total of 74 meetings involving participation of other federal agencies, State and Tribal representatives, and interested publics were conducted in Nevada and California.

Copies of the FEIS/PRMP have been sent to affected federal, State and local government agencies, Tribal governments, and to interested parties. Copies of the FEIS/PRMP are available for public inspection at the Web site http://www.BlackRockHighRock.org/, at the BLM-Nevada Winnemucca Field Office, 5100 E. Winnemucca Blvd., Winnemucca, NV, and at the following repositories: U of Nevada-Reno Getchell Library, Reno NV; Humboldt County Library, Winnemucca NV; BLM-Nevada Carson City Field Office, Carson City NV; BLM-Nevada State Office, Reno NV; Public Library, Gerlach NV; Public Library, Reno NV; Pershing County Public Library, Lovelock NV; Lyon County Library, Dayton NV; Lyon County Library, Fernley NV; BLM-California Surprise Field Office, Cedarville CA; Modoc County Library, Cedarville CA; Modoc County Library, Alturas CA; BLM-California State Office, Sacramento CA; and BLM-California Eagle Lake Field Office, Susanville CA. Persons who are not able to inspect the FEIS/PRMP either on-line or at these locations may request one of a limited number of printed copies or compact discs (CDs) by contacting the NCA Planning Staff at the Winnemucca Field Office by e-mail to wfoweb@nv.blm.gov, by telephone to (775) 623-1500, or by fax to (775) 623-1503. Requests should be directed to the NCA Planning Staff, clearly state that it is a request for a printed copy or CD of the Black Rock-High Rock FEIS/PRMP, and include the name, mailing address and phone number of the requesting party. Comments on the Draft RMP/EIS received from the public and internal BLM review comments were incorporated into the proposed plan. Public comments resulted in the addition of clarifying text and creation of a new alternative, the Proposed RMP, to resolve concerns expressed, but did not significantly change proposed land use decisions. Instructions for filing a protest with the Director of the BLM regarding the Proposed Plan/Final EIS may be found at 43 CFR 1610.5. A protest may only raise those issues which were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

Please direct the follow-up letter to the appropriate address provided below. The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Directors' decision is wrong.

All protests must be in writing and mailed to the following address:

Regular Mail: Director (210), Attention: Brenda Williams, PO Box 66538, Washington, DC 20035.

Overnight Mail: Director (210), Attention: Brenda Williams, 1620 L Street, NW., Suite 1075, Washington, DC 20036.

The Director will promptly render a decision on the protest. The decision will be in writing and will be sent to the protesting party by certified mail, return receipt requested. The decision of the Director shall be the final decision of the Department of the Interior.

Dated: August 15, 2003.
Terry A. Reed,
Field Manager, Winnemucca Field Office, Bureau of Land Management.

[FR Doc. 03-23763 Filed 9-16-03; 8:45 am]

BILLING CODE 4310-HC-P